DEPARTMENT OF AGRICULTURE

Forest Service

Request for Proposals for Hazardous Fuels Woody Biomass Utilization Grant—Forest Restoration Activities on All Priority Forestlands

AGENCY: Forest Service, USDA.

ACTION: Request for proposals.

SUMMARY: The Forest Service, U.S. Department of Agriculture, State and Private Forestry, Technology Marketing Unit, located at the Forest Products Laboratory, requests proposals for projects that increase the use of woody biomass that is removed during hazardous fuels treatment projects on both public and private forestlands. The Hazardous Fuels Woody Biomass Utilization (WBU) Grant Program is intended to improve the effectiveness of forest restoration activities by creating and expanding markets for small-diameter material, low-value trees, and woody biomass removed during hazardous fuel reduction and forest health activities. These funds are intended to assist communities, entrepreneurs, and others turn low-value woody biomass materials from forest restoration activities into marketable forest products and/or energy products.

DATES: Pre-application Postmark Deadline: November 20, 2009. Full Application Postmark Deadline: April 2, 2010.

ADDRESSES: All pre-applications and full applications must be sent to the following address: U.S. Forest Service, ATTN: Patricia Brumm, Grant Officer, Forest Products Laboratory, One Gifford Pinchot Drive, Madison, WI 53726-2398. Detailed information regarding what to include in the pre-application and full application, definitions of terms, eligibility, priority forestlands, and Federal restrictions are available at http://www.fpl.fs.fed.us/tmu (under Hazardous Fuels Woody Biomass Grants), and at http://www.grants.gov. Paper copies of the information are also available by contacting the U.S. Forest Service, S&PF Technology Marketing Unit, One Gifford Pinchot Dr., Madison, Wisconsin 53726-2398, 608-231-9504.

FOR FURTHER INFORMATION CONTACT: For questions regarding the grant application or administrative regulations, contact Patricia Brumm, Grants and Agreements Specialist, 608- 231-9298, pbrumm@fs.fed.us; for program and technical questions, contact Susan LeVan-Green, Program Manager, 608-231-9504, slevan@fs.fed.us.

Individuals who use telecommunication devices for the deaf (TDD) may call the Federal Relay Service (FRS) at 1-800-877-8339 twenty-four hours a day, every day of the year, including holidays.

SUPPLEMENTARY INFORMATION: To address the goals of Public Law 110-234, Food, Conservation, and Energy Act of 2008, Rural Revitalization Technologies (7 U.S.C. 6601), and the anticipated Department of the Interior, Environment, and Related Agencies Appropriation Act of 2010, the Forest Service is requesting proposals to address the nationwide challenge of dealing with low-value woody biomass material removed during hazardous fuels reduction and forest health activities. The Hazardous Fuels WBU has a pre-application requirement. Upon notification, selected pre-applicants will be asked to complete the requirements for a full application. Goals of the grant program are to:

• Reduce forest management costs by increasing the value of biomass and other forest products generated from hazardous fuels reduction and forest health activities.

• Create incentives and/or reduce business risk for increased use of woody biomass from priority forestlands identified either by the Forest Service or through local Community Wildfire Protection Plans (or equivalent documents) as forestlands and other areas at high risk from wildfires and in need of hazardous fuels reduction work.

• Implement projects that target and help remove economic and market barriers to using small-diameter trees and woody biomass.

• Produce renewable energy from woody biomass, including the use of new technologies.

• Build infrastructure to use woody biomass around lands associated with hazardous fuels treatment where no or limited infrastructure exists.

Grant Requirements

1. Eligibility Information

a. Eligible Applicants. Eligible applicants are State, local, tribal governments, school districts, communities, non-profit organizations, businesses, companies, corporations, or special purpose districts (e.g., public utilities districts, fire districts, conservation districts, or ports). Only one application per business or organization will be accepted. If applicants have received a Woody Biomass Utilization Grant after July 1, 2008, they are not eligible. Construction projects involving a permanent building or infrastructure item, such as roads, are not allowed with these Federal funds; however, construction funds can be part of the non-Federal cost share. Proposals must not include the use of this grant funding to prepare bids for Forest Service contracts or agreements.

b. Cost Sharing (Matching Requirement). Applicants shall demonstrate at least a 20% match of the total project cost. This match must be from non-Federal sources, which can include cash or in-kind contributions.

c. DUNS Number. All applicants shall include a Dun and Bradstreet (D&B), Data Universal Numbering System (DUNS) number in their full application. For this requirement, the applicant is the entity that meets the eligibility criteria and has the legal authority to apply and receive a WBU grant. For assistance in obtaining a DUNS number at no cost, call the DUNS number request line (1-866-705-5711) or register on-line at http://fedgov.dnb.com/webform.

d. Central Contractor Registration (CCR). The applicant acknowledges the requirement that prospective awardees shall be registered in the Central Contractor Registration database prior to award, during performance, and through final payment of any grant resulting from this solicitation. Further information can be found at http://www.ccr.gov. For assistance, contact the CCR Assistance Center (1-866-606-8220).

2. Award Information

At least $4 million is anticipated for granting under the 2010 WBU program. Individual grants will be not less than $50,000 or more than $350,000. Grant funding will be divided into two parts. Half of the funds will be allocated for projects on USDA Forest Service National Forest (NF) priority forestlands. The remaining funds will be allocated for projects on non-priority NF lands and other eligible lands. NF priority forestlands are defined by historical high fire suppression costs and high fire probability coupled with high housing density. A map and list of NF priority forestlands can be found at http://www.fpl.fs.fed.us/tmu under Hazardous Fuels Woody Biomass Grants.

The Federal Government's obligation under this program is contingent upon the availability of 2010 appropriated funds. No legal liability on the part of the Government for any payment may arise until funds are made available to the grant officer for this program. The maximum time for a grant award is three years from the date of award. Written annual financial performance reports and semi-annual project performance reports must be required, as well as annual reporting of green tons removed and utilized. The grant funds are taxable income and a Form 1099 Miscellaneous Income, will be sent by the Forest Service to the Internal Revenue Service (IRS). Awardees are expected to follow all Occupational Safety and Health Administration (OSHA) requirements regarding safe working practices and all applicable State and Federal regulations pertinent to the proposed project.

3. Application Review Process

a. The first step requires the applicant to submit a pre-application. Pre-applications are evaluated on criteria discussed in Section 4. All pre-applications must be screened to ensure compliance with the administrative requirements as set forth in this Request for Proposals (RFP).

b. Pre-applications not following the directions for submission must be disqualified without appeal. Directions can be found at http://www.fpl.fs.fed.us/tmu under Hazardous Fuels Woody Biomass Grants.

c. A review panel from Federal and State agencies judges the pre-applications. Panel reviewers independently evaluate the pre-applications according to the criteria and point system.

d. In the second step, successful pre-applicants are invited to revise their application and complete the requirements for a full application. Unsuccessful pre-applications are removed from further consideration. In either case, a letter of notification is provided to each applicant. More detailed financial information for the eligible applicant is required in the full application. The full application is evaluated for technical merit and financial viability of the proposed project. The reviewers discuss rank, and make recommendations to the Forest Service national leadership officials, who make the final decision on the selected projects.

e. Full applications not following directions for submission must be disqualified without appeal. Directions can be found at http://www.fpl.fs.fed.us/tmu under Hazardous Fuels Woody Biomass Grants.

4. Evaluation Criteria and Point System

Full points will be given if there are no technical or budget problems, the assembled team is highly qualified and competent, and there is significant impact on increasing the amount of green tons removed and utilized from hazardous fuels reduction projects on forestlands. If there are minor deficiencies, which could limit success, midway points are given. If there are major deficiencies, which could render the project unsuccessful, minimum points are given.

a. Impact on Forests for Hazardous Fuels Reduction: Total Points 25

• Project work is located on NF priority forestlands (see link for Forest Service priority map and list http://www.fpl.fs.fed.us/tmu). A letter of support from either the Forest Supervisor or District Ranger shall be included. Proposals missing this letter are disqualified. 6 points maximum.

• Project work is conducted within non-priority NF lands and other eligible lands identified as at risk communities and having a local Community Wildfire Protection Plan (or equivalent documents). For non-priority NF lands and other eligible lands, a letter of support from either the Forest Supervisor/District Ranger for NF lands or the State Forester where the project work takes place must be included. Proposals missing this letter are disqualified. 6 points maximum.

• Project work increases the quantity of material removed and utilized, measured in green tons. 7 points maximum.

• Capacity to utilize woody biomass removed during hazardous fuels reduction and/or forest health activities is retained, expanded, or created where capacity is limited or non-existent. 6 points maximum.

b. Public Benefit for All Forestlands: Total Points 20

• Improves efficiency or develops cleaner technology to harvest, process, or use woody biomass for energy, products, or biofuel. 4 points maximum.

• Reduces per acre cost for hazardous fuels reduction. 8 points maximum.

• Local jobs and business vitality are clearly retained, created, or expanded. 8 points maximum.

c. Technical Approach and Work Plan: Total Points 20

• Approach is technically feasible, and description is complete. Start and end dates are identified. Timeline is clear. Key tasks are identified, timely, reasonable, and linked to the budget summary. 7 points maximum.

• Potential for expanding, replicating, or sustaining the project beyond the grant period is documented. 7 points maximum.

• Plans and methods to evaluate and monitor grant activities are documented. Resources to conduct evaluation and monitoring plans are identified. 6 points maximum.

d. Budget Summary: Total Points 15

• Budget summary (SF 424A) and budget summary justification clearly support and link to tasks and timeline for the project. 10 points maximum.

• Non-federal match and leverage of other resources are documented. 5 points maximum.

e. Qualifications and Experience of Applicant: Total Points 20

• Technical expertise and experience of the principals is sufficiently documented to demonstrate the ability to successfully implement the proposed project. 10 points maximum.

• Management team is qualified to implement project and meet evaluation, monitoring, accounting, and reporting requirements of this grant program. 10 points maximum.

Additional criteria for full application:

f. Detailed Financial Information: Total Points 25

• Table 1—Expanded project budget and justification of budget line item assumptions are clearly presented. 10 points maximum.

• Project financial feasibility including supply costs, product pricing, processing costs, and a detailed financial analysis is thoroughly documented. 5 points maximum.

• Documentation of organization's finances provides clear understanding of entity's financial status (see http://www.fpl.fs.fed.us.tmu under Hazardous Fuels Woody Biomass Grants for detailed description of requirements). 10 points maximum.

5. Pre-Application Information

a. Pre-Application Submission. Pre-applications must be postmarked by November 20, 2009 and received no later than 5 p.m. Central Standard Time on November 27, 2009, no exceptions. One paper copy and an electronic version must be submitted to Patricia Brumm, Grant Officer, at the address listed in the ADDRESSES section. The electronic version submitted to Patricia Brumm should be on a USB flash drive or compact disc (CD). No emails will be accepted. Applications may be submitted electronically through http://www.grants.gov.

b. Pre-Application Format. Each submittal must be in PDF format, with a minimum font size of 11 letters per inch. Top, bottom, and side margins must be no less than three-quarters of an inch. All pages must be clearly numbered. Paper copy shall be single sided on 8.5- by 11-inch plain white paper only (no colored paper, over-sized paper, or special covers). Do not staple.

c. Pre-Application Content. Forms for the Project Summary Table, SF 424, 424A, and Budget Table 1 can be found at http://www.fpl.fs.fed.us/tmu under Woody Biomass Grants.

i. Order. Assemble information in the following order:

• Project Summary Table (one page limit);

• Application for Federal Assistance SF 424 and Budget Summary SF 424A;

• Project Narrative (five page limit);

• Budget Summary Justification in support of SF 424A (two page limit);

• Appendices.

Qualification and description of principals and management team.

2. Letters of Support

ii. Project Narrative. The project narrative must provide a clear description of the work to be performed and its impact on Federal and non-Federal forestlands. The NF priority forestland (see link for Forest Service priority map and list http://www.fpl.fs.fed.us/tmu) must be identified by name. For all priority and non-priority NF forests, a letter of support must be submitted from the District Ranger or Forest Supervisor. For other eligible lands, the applicant shall identify the Community Wildfire Protection Plans (or equivalent document) that identify the hazardous fuels reduction activities and shall submit a letter of support from the State Forester where the project takes place. The project narrative is limited to five pages, and excludes Project Summary Table, SF 424 and SF 424A, budget summary justification, and letters of support.

The project narrative should address the following:

• Describe geographical location where project takes place. Indicate if project is in an area identified as a NF priority forestland (see link for Forest Service priority map and list http://www.fpl.fs.fed.us/tmu) or under a local Community Wildfire Protection Plan (or equivalent document).

• Describe condition of the forest or non-priority NF lands and other eligible lands. Provide the Fire Regime Condition Class (http://www.frcc.gov), and the consequences of not doing hazardous fuels treatments, and/or forest health treatments.

• Report current handling and disposal practices for material removed because of hazardous fuels reduction activities.

• Describe how the woody biomass will be used if a grant is awarded. Include a discussion of potential markets.

• Anticipate outcomes and measures of success for this project.

• Document the reduced per acre cost for hazardous fuels reductions and/or forest health restoration on both Federal and other eligible lands.

• Discuss how the project will increase the green tons removed and utilized.

• Indicate intangible benefits. Examples of tangible and intangible benefits are listed on the Technology Marketing Unit's Web site at http://www.fpl.fs.fed.us/tmu (Hazardous Fuels Woody Biomass Grants, under Directions—General Information) or at http://www.grants.gov.

• Explain how the project will improve efficiencies for harvesting or processing woody biomass, particularly what cleaner technologies will be used.

• Show how the project will retain, create or expand local jobs and provide opportunities for using woody biomass in geographical locations where currently there is no or limited infrastructure.

• Provide a project work plan, including start and end dates, key tasks, previous project feasibility studies (as appropriate), and timelines.

• Identify individuals responsible for implementing and ensuring project success.

• List long-term benefits of project and the length of time the benefits and impacts are anticipated.

• Describe expansion capability, such as potential to expand the application to additional forest treatment areas or to create higher valued uses.

iii. Further Pre-application Information. A full description for each project narrative bullet can be obtained from the Technology Marketing Unit's Web site at http://www.fpl.fs.fed.us/tmu (under Grant Application Directions, Hazardous Fuels Woody Biomass Grants) or at www.grants.gov, or by calling the telephone number in the FOR FURTHER INFORMATION CONTACT section, or by writing to the address in the ADDRESSES section of this notice.

6. Full Application Information

USDA Forest Service will request full applications only from those applicants selected in the pre-application process.

a. Full Application Submission. Full applications must be postmarked by April 2, 2010 and received no later than 5 p.m. Central Standard Time on April 9, 2010. No exceptions. One paper copy and an electronic version must be submitted to Patricia Brumm, Grant Officer, at the address listed in the ADDRESSES section of this RFP. The electronic version submitted to Patricia Brumm should be on a USB flash drive or compact disc (CD). No emails will be accepted. Applications may be submitted electronically through http://www.grants.gov.

b. Full Application Format. The full application follows the same format requirements as for the pre-application.

c. Full Application Content. Forms for the Project Summary Table, SF 424, SF 424A, AD 1047, 1048, 1049, certificate regarding lobbying activities, and SF 424B can be found at http://www.fpl.fs.fed.us/tmu under Hazardous Fuels Woody Biomass Grants, as well as a detailed description of the required financial information.

i. Order. Assemble information in the following order:

• Project Summary Table (one page limit);

• Application for Federal Assistance SF 424 and Budget Information SF 424A;

• Project Narrative (ten page limit);

• Budget Summary Justification in support of SF 424A (two page limit);

• Detailed Financial Information;

• Appendices.

1. Qualification and description of principals and management team.

2. Letters of support.

3. Other Federal funds.

4. Equipment descriptions and quotes.

5. Required certificates: AD 1047, 1048, 1049, certificate regarding lobbying activities, and SF 424B.

ii. Project Narrative. The project narrative must provide a clear description of the work to be performed with revisions providing more detail than presented in the pre-application. The impact of the proposed project on both Federal and other eligible lands must be described. The NF priority forestland (see link for Forest Service priority map and list http://www.fpl.fs.fed.us/tmu), must be identified by name. For all NF forests, a letter of support must be submitted from the Forest Supervisor or District Ranger. Letters of support must be updated for the full application. For other eligible lands, the applicant shall identify the Community Wildfire Protection Plans (or equivalent documentation) that identifies the hazardous fuels reduction activities needed. A letter of support must be included from the State Forester where the project takes place. For these letters, the applicant can submit a letter of support that was submitted with the pre-application. The project narrative is limited to 19 pages, and excludes the Project Summary Table, budget summary justification, qualifications and letters of support, as well as any required certification forms.

The project narrative must address the same issues as listed under the pre-application in this RFP but must include the following additions:

• Describe environmental documentation and permits, if applicable, and positive and negative environmental consequences to the forestland with and without project.

• Discuss any reduction in green house gases and water pollution, improvements in wildlife habitats, and adoption of new cleaner technologies.

• Explain evaluation and monitoring plans and how these would be implemented to evaluate degree of success.

• Provide accountability procedures to ensure all requirements of this grant are achieved.

• List the socio-economic impacts of this grant if awarded, such as jobs retained, expanded or created.

• Identify current capacity in the geographical location of the project and how this grant will contribute to retaining, expanding or creating infrastructure to use woody biomass.

iii. Detailed Financial Information. Detailed financial information is requested to assess the financial capacity of the applicant. All financial information remains confidential and is not accessible under the Freedom of Information Act (5 U.S.C. 552, (b)(4)). If the applicant has questions about how confidential information is handled, they should contact either Susan LeVan-Green at slevan@fs.fed.us or Patricia Brumm at pbrumm@fs.fed.us. The financial information should provide a general overview of current, historical and projected (pro forma) financial performance. Prepare the required financial information documentation in accordance with Generally Accepted Accounting Practices (GAAP). Strong applications have benefited from the use of a certified accountant to develop this information. Applicants should refer to http://www.fpl.fs.fed.us/tmu under Hazardous Fuels Woody Biomass Grants for the financial information required for the full application.

7. Appendices

The following information must be included in the appendix of the pre-application and the full application:

• Qualifications and Description of Management Team: Qualifications of the project manager and key personnel should be included. Discuss management team's knowledge and experience as it applies to project. Document how the management team is qualified to implement project and meet evaluation, monitoring, accounting, and reporting requirements. Explain in detail how the management team will ensure the success of the project.

• Letter of Support and Biomass Availability Is Required: This letter must describe forest management plans on Forest Service NF and how the proposed project will help meet forest management objectives. For other eligible lands, this letter must describe Community Wildfire Protection Plans (or equivalent documentation) and how the proposed project will help meet those objectives. The number of acres at risk, timeframes, available volumes, and opportunities for applicant to access these volumes are suggested issues to address in these support letters. These letters must be submitted with both the pre-application and full application. For Forest Service, NF lands, the letter must be signed by either a Forest Supervisor or District Ranger from the project location. For other eligible lands, the State Forester shall sign the support letter.

• Letters of Support From Partners, Individuals, or Organizations: Letters of support must be included in an appendix and are intended to display the degree of collaboration occurring between the different entities engaged in the project. These letters must include commitments of cash or in-kind services from all partners as listed in the SF 424 and SF 424A. Each letter of support is limited to one page in length.

• The following information is only required in the full application:

• Federal Funds: List all other Federal funds received for this project within the last three years. List agency, program name, and dollar amount.

• Equipment Quotes: If requesting equipment, applicant shall include two quotes for each piece of equipment requested. If awarded a WBU grant, final receipts for all equipment purchased must be submitted to the Grant Officer.

• Administrative Forms: AD 1047, 1048, 1049, SF 424B and certificate regarding lobbying activities are standard forms that need to be included and are required before a grant can be awarded. These forms can be accessed at http://www.fpl.fs.fed.us/tmu under Hazardous Fuels Woody Biomass Grants, Forms.

Dated: September 24, 2009.
John Phipps,
Associate Deputy Chief, State and Private Forestry.

[FR Doc. E9-23644 Filed 9-30-09; 8:45 am]

BILLING CODE 3410-11-P